DEPARTMENT OF TRANSPORTATION

Federal Aviation Administration

[Docket No. 2019-0396]

Agency Information Collection Activities: Requests for Comments; Clearance of Renewed Approval of Information Collection: Application for Employment With the Federal Aviation Administration

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on July 9, 2019. The collection involves an automated application process for employment with the Federal Aviation Administration. Applicants access an online form that is presented with requests for certain information.

The information collected is necessary to determine basic eligibility for employment and potential eligibility for Veteran's Preference, Veteran's Readjustment Act, and People with Disability appointments. In addition, there are specific occupation questions that assist the FAA Office of Human Resource Management (AHR) in determining candidates' qualifications in order that the best-qualified candidates are hired for the many FAA occupations.

DATES: Written comments should be submitted by January 13, 2020.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Toni Main-Valentin by email at: toni.main-valentin@faa.gov; phone: 405-954-0870.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0597.

Title: Application for Employment with the Federal Aviation Administration.

Form Numbers: FAA-3330-76.

Type of Review: Renewal of an information collection.

Background: The Federal Register Notice with a 60-day comment period soliciting comments on the following collection of information was published on July 9, 2019 (84 FR 32826). Under the provisions of Public Law 104-50, the Federal Aviation Administration (FAA) was given the authority and the responsibility for developing and implementing its own personnel system without regard to most of the provisions of Title 5, United States Code, exceptions being those concerning veteran's preference and various benefits.

The OPM developed a suite of forms for use in automated employment processes: All under a single OMB approval. The FAA AHR has the same OMB approval for its automated application for employment. By automating processes for employment application and the evaluation of candidates, AHR has markedly improved the service it provides to the public as well as its ability to locate and hire the best-qualified applicants. Lastly, via this process, applicants are provided on-line results immediately upon submitting their application questionnaires.

The Agency is requesting certain information necessary to determine basic eligibility for employment and potential eligibility for Veteran's Preference, Veteran's Readjustment Act, and People with Disability appointments. In addition, occupation specific questions assist AHR in determining candidates' qualifications in order that the best-qualified candidates are hired for the many FAA occupations. The system currently in use for this collection is the Automated Vacancy Information Access Tool for Online Referral (AVIATOR). This system cannot be directly accessed. Applicants are transferred to the AVIATOR system from OPM's USAJOBS website during the application process.

Respondents: Over 180,000 U.S. citizens identified as applicants for employment with the Federal Aviation Administration.

Frequency: On occasion/as interested.

Estimated Average Burden per Response: 180,000 hours.

Approximately 180,000 respondents will complete an application form on as needed basis. Based on this sample size, it will take the average applicant approximately 1 hour to read the instructions and complete the form.

Estimated Total Annual Burden: The estimated total burden is 180,000 hours annually.

Issued in Washington, DC, on December 6, 2019.
Alpha Woodson-Smith,
Information Technology Project Manager, Finance and Management (AFN), Information and Technology Services (AIT), Enterprise Program Management Service (AEM-320).

[FR Doc. 2019-26702 Filed 12-11-19; 8:45 am]

BILLING CODE 4910-13-P